DEPARTMENT OF COMMERCE

Foreign-Trade Zones Board

[B-65-2016]

Foreign-Trade Zone (FTZ) 158—Vicksburg/Jackson, Mississippi; Notification of Proposed Production Activity; MTD Consumer Group, Inc. (Lawn and Garden Equipment); Verona, Mississippi

MTD Consumer Group, Inc. (MTD), submitted a notification of proposed production activity to the FTZ Board for its facility in Verona, Mississippi, within FTZ 158. The notification conforming to the requirements of the regulations of the FTZ Board (15 CFR 400.22) was received on September 13, 2016.

The MTD facility is located within Site 17 of FTZ 158. The facility is used for the production of lawn and garden equipment. Pursuant to 15 CFR 400.14(b), FTZ activity would be limited to the specific foreign-status materials and components and specific finished products described in the submitted notification (as described below) and subsequently authorized by the FTZ Board.

Production under FTZ procedures could exempt MTD from customs duty payments on the foreign-status components used in export production. On its domestic sales, MTD would be able to choose the duty rates during customs entry procedures that apply to water pumps; blowers; power washers; tillers; de-thatchers; aerators; snow throwers; walk behind mowers; mower attachments; edgers; wheeled string trimmers; chippers; shredders; chipper/shredder/vacuums (CSVs); log splitters; and, 2-wheel tractors (duty rates range between free and 2.4%) for the foreign-status inputs noted below. Customs duties also could possibly be deferred or reduced on foreign-status production equipment.

The components and materials sourced from abroad include: polyvinyl chloride tubes; plastic flexible hoses/adhesive labels/bagger cover panels; rubber v-belts/tire inner tubes/0-rings/oil seals/water seals/plugs; cardboard retail cartons; textile grass catcher bags; steel hydraulic fittings/control cables/screw rings/hexagonal head bolts/nuts/washers/pins/springs/mower blades; metal frame brackets; gasoline-powered engines; engine shrouds; hydraulic cylinders; reciprocating positive displacement pumps; hydraulic fluid power pumps; pump parts (ports, bodies and cores); wheels for leaf blowers; hydraulic fluid inlet filters; air cleaners; pressure washer spray gun/nozzle fittings/nozzle extension tubes; snow thrower wheels; block joint assemblies for snow throwers; tiller parts (tine/handle assemblies, handle covers, tines, bails, drive handles, handle height adjuster plates); lawn mower wheels; water nozzle adapters for lawn mower decks; blower chutes for lawn mowers; wheeled string trimmer bodies; string trimmer handles; log splitter wheels; hitch coupling assemblies for log splitters; steel screens for wood chippers; wedges for wood chippers; edger wheels; manual directional valves for hydraulic fluid on log splitters; valve parts for log splitters; radial ball bearings; transmission shafts/cranks/assemblies; worm gears; gearbox housings; metal magnets; motor starters; axles for 2-wheel tractors; and, wheel barrow/cart wheels with tires (duty rates range from free to 9%).

Public comment is invited from interested parties. Submissions shall be addressed to the FTZ Board's Executive Secretary at the address below. The closing period for their receipt is November 14, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: September 27, 2016.
Andrew McGilvray,
Executive Secretary.

[FR Doc. 2016-23965 Filed 10-3-16; 8:45 am]

BILLING CODE 3510-DS-P